DEPARTMENT OF HOMELAND SECURITY

Coast Guard

33 CFR Part 165

[Docket Number USCG-2024-0119]

RIN 1625-AA00

Safety Zone; Reoccurring Firework Displays Near Convention Center on the Mobile River; Mobile, AL

AGENCY: Coast Guard, DHS.

ACTION: Final rule.

SUMMARY: The Coast Guard is establishing a safety zone for reoccurring firework displays on the Mobile River in the vicinity of the Arthur R. Outlaw Convention Center in Mobile, AL. The safety zone will be enforced only during the firework displays. Establishment of this safety zone is necessary to protect waterway users and vessels from potential hazards associated with these firework displays. This rulemaking will prohibit entry into the safety zone during the firework displays unless authorized by the Captain of the Port Mobile (COTP), or a COTP designated representative.

DATES: This rule is effective July 31, 2024.

ADDRESSES: To view documents mentioned in this preamble as being available in the docket, go to https://www.regulations.gov, type USCG-2024-0119 in the search box and click “Search.” Next, in the Document Type column, select “Supporting & Related Material.”

FOR FURTHER INFORMATION CONTACT: If you have questions about this rule, call or email Lieutenant Lawrence J. Schad, Waterways Management, Sector Mobile, U.S. Coast Guard; telephone 251-382-8653, email SectorMobileWaterways@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

The Coast Guard receives numerous event applications for firework displays on the Mobile River, to be held in the vicinity of the Arthur R. Outlaw Convention Center in Mobile, AL. These displays are sponsored by multiple organizations and held sporadically throughout the year. Based on previous years, approximately five to ten displays are expected to be held on any given year. The purpose of this rule is to ensure the safety of vessels, participants, and waterways users within a 100-yard radius of the fireworks barge immediately before, during, and after scheduled events. In response, on March 14, 2024, the Coast Guard published a notice of proposed rulemaking (NPRM) titled “Safety Zone; Reoccurring Firework Displays Near Convention Center on the Mobile River, Mobile, AL” (89 FR 18583). There we stated why we issued the NPRM and invited comments on our proposed regulatory action related to these fireworks displays. During the comment period that ended April 15, 2024, we received one comment which favored the establishment of the safety zone. The final rule is unchanged from that which we proposed in the NPRM.

III. Legal Authority and Need for Rule

The Coast Guard is issuing this rule under authority in 46 U.S.C. 70034. The Captain of the Port Sector Mobile Region (COTP) has determined that potential hazards associated with the fireworks to be used in these reoccurring firework displays will be a safety concern for anyone within a 100-yard radius of the barge. The purpose of this rule is to ensure safety of vessels and the navigable waters in the safety zone before, during, and after the scheduled event.

IV. Discussion of Comments, Changes, and the Rule

As noted above, we received one comment on our NPRM published March 14, 2024, that was in favor of the rulemaking. There are no changes in the regulatory text of this rule from the proposed rule in the NPRM.

This rule establishes a reoccurring safety zone covering all navigable waters within a 100-yard radius of barge-based firework displays on the Mobile River. The safety zone will be subject to enforcement for approximately one hour when a barge-based fireworks display is scheduled to occur. No person will be allowed within 100 yards of the fireworks barges immediately before, during, and immediately after firework displays. The duration of the zone is intended to ensure the safety of vessels and these navigable waters before, during, and after the fireworks display. No vessel or person will be permitted to enter the safety zone without obtaining permission from the COTP, or a COTP designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time of day of the safety zone. Vessel traffic may be able to safely transit around this safety zone which w impact a small, designated area of the Mobile River for less than 1 hour during the evening for the duration of the firework display.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator due to the limited duration this rule will be enforced.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a safety zone immediately before, during, and immediately after the firework displays which will prohibit entry within 100 yards of a barge in which the fireworks are being fired from on the Mobile River, located in the vicinity of the Arthur R. Outlaw Convention Center in Mobile, AL. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.834 to read as follows:

§ 165.834 Safety Zone; Reoccurring Firework Displays near Convention Center on the Mobile River, Mobile, AL.

(a) Location. The following area is a safety zone: All navigable waters on the Mobile River 100 yards in all directions from any barges holding fireworks immediately before, during, and immediately after firework displays. The barges will generally be located in the Mobile River in the vicinity of the Arthur R. Outlaw Convention Center.

(b) Definitions. As used in this section, designated representative means a Coast Guard Patrol Commander, including a Coast Guard coxswain, petty officer, or other officer operating a Coast Guard vessel and a Federal, State, and local officer designated by or assisting the Captain of the Port Mobile.] (COTP) in the enforcement of the safety zone.

(c) Regulations. (1) Under the general safety zone regulations in subpart C of this part, you may not enter the safety zone described in paragraph (a) of this section unless authorized by the Captain of the Port Sector Mobile (COTP) or the COTP's designated representative.

(2) To seek permission to enter, contact the COTP or the COTP's representative by VHF CH-16. Those in the safety zone must comply with all lawful orders or directions given to them by the COTP or the COTP's designated representative.

(d) Notification. COTP will use all appropriate means to notify the public in advance of an event of the enforcement of this safety zone either by publishing a Notice of Enforcement in the Federal Register or through the local Notice to Mariners and Broadcast Notice to Mariners. Such notifications will include the date and times of enforcement, along with any pre-determined conditions of entry. Firework barges will also have a sign on their port and starboard side labeled “FIREWORKS—STAY AWAY”. This sign will consist of a ten inch high by one and half inch wide red lettering on a white background.

(e) Enforcement period. This rule will be enforced anytime immediately before, during, and immediately after a barge is conducting firework displays on the Mobile River. The Coast Guard anticipates that these safety zones will be enforced for a one hour duration for each display, between 7 p.m. and 1 a.m. The exact dates and times will be announced as described in paragraph (d) of this section.

Dated: June 24, 2024.
U.S. Mullins,
Captain, U.S. Coast Guard, Captain of the Port Sector Mobile.

[FR Doc. 2024-14374 Filed 6-28-24; 8:45 am]

BILLING CODE 9110-04-P